DEPARTMENT OF COMMERCE

International Trade Administration

Travel and Tourism Trade Mission to Taiwan, Japan, and Korea

AGENCY: International Trade Administration, Department of Commerce.

ACTION: Notice.

SUMMARY: The United States Department of Commerce, International Trade Administration, U.S. and Foreign Commercial Service is amending notice for the Travel and Tourism Trade Mission to Taiwan, Japan and Korea scheduled for March 10-14, 2014, published at 78 FR 34344, June 7, 2013, to identify the mission as an Executive-led Trade Mission.

FOR FURTHER INFORMATION CONTACT: Frank Spector, Office of Domestic Operations, Trade Promotion Programs, Phone: 202-482-2054; Fax: 202-482-9000, email: Frank.Spector@trade.gov.

SUPPLEMENTARY INFORMATION: The International Trade Administration will have a senior executive lead the Travel and Tourism Trade Mission to Taiwan, Japan and Korea, March 10-14, 2014, published at 78 FR 34344, June 7, 2013. As previously published, the notice did not specify that a senior executive will be leading the mission.

Amendments

For these reasons, the Mission Description of the Notice of the Travel and Tourism Trade Mission to Taiwan, Japan, and Korea is amended to read as follows:

The United States Department of Commerce, International Trade Administration, U.S. & Foreign Commercial Service, is organizing an Executive-led Trade Mission to Taiwan, Japan, and Korea March 10-14, 2014. The purpose of the mission is to help U.S. firms in the travel and tourism industry find business partners and sell services in Taipei, Taiwan; Seoul, Korea; and Tokyo, Japan. The targeted sector for participation in this mission is travel and tourism, including U.S.-based travel and tourism suppliers, destination marketing organizations (i.e., convention and visitors bureaus), travel promotion organizations and other travel and tourism entities promoting and selling travel to the United States including trade associations.

Frank Spector,
Senior International Trade Specialist.

[FR Doc. 2013-16815 Filed 7-12-13; 8:45 am]

BILLING CODE 3510-FP-P